ENVIRONMENTAL PROTECTION AGENCY

[EPA-HQ-OPP-2025-0049; FRL-12717-01-OCSPP]

Agency Information Collection Activities; Proposed New Collection and Request for Comment; Bilingual Pesticide Labeling Tracking (EPA ICR No. 7795.01; OMB Control No. 2070-NEW)

AGENCY: Environmental Protection Agency (EPA).

ACTION: Notice.

SUMMARY: In compliance with the Paperwork Reduction Act (PRA), this document announces the availability of and solicits public comment on the following Information Collection Request (ICR) that EPA is planning to submit to the Office of Management and Budget (OMB): Bilingual Pesticide Labeling Tracking (EPA ICR No. 7795.01 and OMB Control No. 2070-NEW). This ICR represents a new request. Before submitting the ICR to OMB for review and approval under the PRA, EPA is soliciting comments on specific aspects of the information collection that is summarized in this document. The ICR and accompanying material are available in the docket for public review and comment.

DATES: Comments must be received on or before September 19, 2025.

ADDRESSES: Submit your comments, identified by docket identification (ID) number Docket ID No. EPA-HQ-OPP-2025-0049, online at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Carolyn Siu, Office of Program Support (Mail Code 7602M), Office of Chemical Safety and Pollution Prevention, Environmental Protection Agency, 1200 Pennsylvania Ave. NW, Washington, DC 20460-0001; telephone number: (202) 566-1204; email address: siu.carolyn@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Bilingual Pesticide Labeling Tracking.

EPA ICR No.: 7795.01.

OMB Control No.: 2070-NEW.

ICR Status: This ICR is for a new information collection activity. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: This is a new information collection activity that covers the paperwork burden for the tracking the adoption of bilingual labeling of pesticide products. This ICR was developed as part of a requirement by the Pesticide Registration Improvement Act (PRIA). PRIA was enacted in 2004 and established a new system for registering pesticides including fees and guaranteed decision times, along with funding for farmworker protection activities. PRIA was reauthorized in 2007, 2012, 2019, and most recently on December 29, 2022 (PRIA 5). PRIA 5 amended the Federal Insecticide, Fungicide, and Rodenticide Act (FIFRA) to require bilingual language translation for sections of the end-use pesticide product labels where translation is available in the EPA Spanish Translation Guide for Pesticide Labeling (or the Spanish Translation Guide). PRIA 5 requires that each registered pesticide product released for shipment include either the bilingual language translation for sections of the labeling contained in EPA's Spanish Translation Guide for Pesticide Labeling on the pesticide product container, or a link to such translation via scannable technology or other electronic methods readily accessible on the product label.

The ICR, which is available in the docket along with other related materials, provides a detailed explanation of the collection activities and the burden estimate that is only briefly summarized here:

Form number(s): 8570-30 and 8350-05.

Respondents/affected entities: Entities potentially affected by this ICR include pesticide importers, pesticide manufacturers and government establishments responsible for agricultural pest and weed regulation. North American Industrial Classification System (NAICS) codes identified in question 12 of the ICR.

Respondent's obligation to respond: Mandatory. 40 CFR 152.

Estimated number of potential respondents: 1,152.

Frequency of response: Annually.

Total estimated average number of responses for each respondent: 4.

Total estimated respondent burden: 27,784 hours (per year). Burden is defined at 5 CFR 1320.3(b).

Total estimated respondent costs: $3,648,965 (per year), includes $0 annualized capital investment or maintenance and operational costs.

III. Are there changes in the estimates from the last approval?

This is a new collection.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: July 17, 2025.
Nancy B. Beck,
Principal Deputy Assistant Administrator, Office of Chemical Safety and Pollution Prevention.

[FR Doc. 2025-13674 Filed 7-18-25; 8:45 am]

BILLING CODE 6560-50-P